DEPARTMENT OF COMMERCE

International Trade Administration

Initiation of Antidumping and Countervailing Duty Administrative Reviews

Correction

In notice document 2014-25865, appearing on pages 64565-64569 in the Issue of Thursday, October 30, 2014, make the following correction:

On page 64568, in the Table titled “Countervailing Duty Proceedings” is corrected to read as set forth below:

Countervailing Duty Proceedings
INDIA: Certain Lined Paper Products C-533-844 | 1/1/13-12/31/13
Navneet Education Ltd. (aka Navneet Publications (India) Ltd.)
THE PEOPLE'S REPUBLIC OF CHINA: Certain New Pneumatic Off-The-Road Tires C-570-913 | 1/1/13-12/31/13
Guizhou Tyre Co., Ltd.
Guizhou Tyre Import and Export Co., Ltd.
THE PEOPLE'S REPUBLIC OF CHINA: Certain Magnesia Carbon Bricks C-570-955 | 1/1/13-12/31/13
Fedmet Resources Corporation
Fengchi Imp. And Exp. Co., Ltd. of Haicheng City
Fengchi Minging Co., Ltd of Haicheng City and Fengchi Refractories Corp.
Puyang Refractories Co., Ltd.

[FR Doc. C1-2014-25865 Filed 11-7-14; 8:45 am]

BILLING CODE 1505-01-D